DEPARTMENT OF THE TREASURY

[Docket ID: TREAS-DO-2015-0009]

Multiemployer Pension Plan Application To Reduce Benefits; Reopening of Comment Period

AGENCY: Department of the Treasury.

ACTION: Notice of availability; Reopening of comment period.

SUMMARY: On October 23, 2015, the Department published a notice of availability and request for comments regarding an application to Treasury to reduce benefits under the Central States, Southeast and Southwest Areas Pension Plan in accordance with the Multiemployer Pension Reform Act of 2014 (MPRA). The purpose of this notice is to reopen the comment period and provide more time for interested parties to provide comments.

DATES: Comments must be received on or before February 1, 2016.

ADDRESSES: You may submit comments electronically through the Federal eRulemaking Portal at http://www.regulations.gov, in accordance with the instructions on that site. Electronic submissions through www.regulations.gov are encouraged.

Comments may also be mailed to the Department of the Treasury, MPRA Office, 1500 Pennsylvania Avenue NW., Room 1224, Washington, DC 20220. Attn: Deva Kyle. Comments sent via facsimile and email will not be accepted.

Additional Instructions. All comments received, including attachments and other supporting materials, will be made available to the public. Do not include any personally identifiable information (such as Social Security number, name, address, or other contact information) or any other information in your comment or supporting materials that you do not want publicly disclosed. Treasury will make comments available for public inspection and copying on www.regulations.gov or upon request. Comments posted on the Internet can be retrieved by most Internet search engines.

FOR FURTHER INFORMATION CONTACT: For information regarding the application from the Board of Trustees of the Central States, Southeast and Southwest Areas Pension Plan, please contact Treasury at (202) 622-1534 (not a toll-free number).

SUPPLEMENTARY INFORMATION: The Multiemployer Pension Reform Act of 2014 (MPRA) amended the Internal Revenue Code to permit a multiemployer plan that is projected to have insufficient funds to reduce pension benefits payable to participants and beneficiaries if certain conditions are satisfied. In order to reduce benefits, the plan sponsor is required to submit an application to the Secretary of the Treasury, which the Department of the Treasury (Treasury), in consultation with the Pension Benefit Guaranty Corporation (PBGC) and the Secretary of Labor, is required to approve or deny.

On September 25, 2015, the Board of Trustees of the Central States, Southeast and Southwest Areas Pension Plan (Central States Pension Plan) submitted an application for approval to reduce benefits under the Central States Pension Plan. As required by the MPRA, that application has been published on Treasury's Web site at http://www.treasury.gov/services/Pages/central-states-application.aspx. On October 23, 2015, Treasury published a notice in the Federal Register (80 FR 64508), in consultation with PBGC and the Department of Labor, to solicit public comments on all aspects of the Central States Pension Plan application. The notice provided that comments must be received by December 7, 2015.

This notice announces the reopening the comment period in order to give additional time for interested parties to provide comments. Comments are requested from interested parties, including contributing employers, employee organizations, and participants and beneficiaries of the Central States Pension Plan. Consideration will be given to any comments that are timely received by Treasury on or before February 1, 2016.

Dated: December 7, 2015.
David R. Pearl,
Executive Secretary, Department of the Treasury.

[FR Doc. 2015-31163 Filed 12-9-15; 8:45 am]

BILLING CODE 4810-25-P